DEPARTMENT OF TRANSPORTATION

Federal Aviation Administration

14 CFR Part 39

[Docket No. 2003-CE-19-AD; Amendment 39-13413; AD 2003-26-14]

RIN 2120-AA64

Airworthiness Directives; Kidde Aerospace Part Number (P/N) 898052 Hand-Held Halon Fire Extinguishers

AGENCY: Federal Aviation Administration (FAA), DOT.

ACTION: Final rule.

SUMMARY: The FAA adopts a new airworthiness directive (AD) for certain Kidde Aerospace P/N 898052 hand-held halon fire extinguishers that are utilized on aircraft. This AD requires you to remove the affected fire extinguishers from service and would prevent you from using them in the future. This AD is the result of information that shows that the discharge time of the affected fire extinguishers exceeds the maximum allowable discharge time. The problem is due to incomplete crimping of the siphon tube. We are issuing this AD to remove from service fire extinguishers that had this incomplete crimping of the siphon tube. If not removed from service, these fire extinguishers could function at diminished levels and compromise the level of safety in an emergency situation.

DATES: This AD becomes effective on February 20, 2004.

The Director of the Federal Register approved the incorporation by reference of certain publications listed in the regulation as of February 20, 2004.

ADDRESSES: You may get the service information identified in this AD from Kidde Aerospace, Kidde Technologies, Inc., 4200 Airport Drive, NW., Wilson, North Carolina 27896; telephone: (252) 237-7004.

You may view the AD docket at FAA, Central Region, Office of the Regional Counsel, Attention: Rules Docket No. 2003-CE-19-AD, 901 Locust, Room 506, Kansas City, Missouri 64106. Office hours are 8 a.m. to 4 p.m., Monday through Friday, except Federal holidays.

FOR FURTHER INFORMATION CONTACT: Charles H. Bowser, Flight Test Engineer, FAA, Atlanta Aircraft Certification Office, One Crown Center, 1895 Phoenix Boulevard, Suite 450, Atlanta, Georgia 30349; telephone: (770) 703-6047; facsimile: (770) 703-6097.

SUPPLEMENTARY INFORMATION:

Discussion

What Events Have Caused This AD?

The FAA has received information of problems with certain Kidde Aerospace P/N 898052 hand-held halon fire extinguishers that are utilized on aircraft. This information shows that the discharge time of the affected fire extinguishers exceeds the maximum allowable discharge time.

The problem is due to incomplete crimping of the siphon tube. Specifically, worn crimping tools were used to crimp the siphon tube. This is causing leakage between the siphon tube and the valve.

What Is the Potential Impact if FAA Took No Action?

If these fire extinguishers that had this incomplete crimping of the siphon tube are not removed from service, then the fire extinguishers could function at diminished levels and compromise the level of safety in an emergency situation.

Has FAA Taken Any Action to This Point?

We issued a proposal to amend part 39 of the Federal Aviation Regulations (14 CFR part 39) to include an AD that would apply certain Kidde Aerospace P/N 898052 hand-held halon fire extinguishers that are utilized on aircraft. This proposal was published in the Federal Register as a notice of proposed rulemaking (NPRM) on May 13, 2003 (68 FR 25543). The NPRM proposed to require you to remove the affected fire extinguishers from service and would prevent you from using any affected fire extinguisher in the future.

Comments

Was the Public Invited To Comment?

We provided the public the opportunity to participate in the development of this AD. The following presents the comments received on the proposal and FAA's response to each comment:

Comment Issue No. 1: Extend the Compliance Time

What Is the Commenter's Concern?

Several commenters recommend extending the compliance time from 6 months to 12 months, while one commenter recommends an extension to 18 months. The commenters state that the extension is necessary due to the large number of affected extinguishers and the logistics involved with AD compliance.

What Is FAA's Response to the Concern?

The FAA agrees that 12 months would be a more realistic compliance time.

We are changing the final rule AD action accordingly.

Comment Issue No. 2: Clarify the Fire Extinguisher Applicability

What Is the Commenter's Concern?

Several commenters state that the current wording for the fire extinguisher applicability of “manufactured from 1995 through 2002 and have a serial number of W-389653 or lower” is confusing. The commenters recommend the following language to more fully depict the intended applicability:

Fire extinguishers affected by this AD are serial numbers V-432001 through W-389653 inclusive that were manufactured sometime from 1995—2002. Serial numbers are identified by the Underwriter's Laboratories (UL) number printed on the label and are listed in succession. Other variants of the UL number with prefixes other than “V” or “W” are not affected by this AD.

What Is FAA's Response to the Concern?

The FAA concurs that the recommended language more accurately reflects the fire extinguisher serial number range.

We are changing the final rule AD action accordingly.

Comment Issue No. 3: Add a Dash Number to the Existing Part Number

What Is the Commenter's Concern?

One commenter recommends adding a dash number to the existing fire extinguisher part number. The commenter states that this would allow you to distinguish between pre- and post-bulletin modifications.

What Is FAA's Response to the Concern?

The FAA does not believe that this is necessary since the replacement fire extinguishers will have their own separate and unique serial numbers.

We are not making any changes to the final rule AD action.

Comment Issue No. 4: Cost Estimate Too High

What Is the Commenter's Concern?

One commenter states that FAA's estimate of 2 workhours to locate, access, pack, ship, receive the new unit, store, and reinstall the new unit is too high. The commenter states that 1 workhour is a conservative estimate.

What Is FAA's Response to the Concern?

The FAA agrees that 1 workhour more adequately reflects the time necessary to do the work.

We are changing the final rule AD action accordingly.

Comment Issue No. 5: Revise Fire Extinguisher Return Procedures

What Is the Commenter's Concern?

One commenter recommends that the AD should more clearly reference the procedures in the service information for returning any fire extinguishers. Specifically, the commenter states that you should not discharge the fire extinguishers, and you should not ship them back to Kidde because a special collection point is already established. This information is outlined in the service information.

What Is FAA's Response to the Concern?

The FAA agrees that the return procedures should reference that in the service information.

We are changing the final rule AD action accordingly.

Conclusion

What Is FAA's Final Determination on This Issue?

We have carefully reviewed the available data and determined that air safety and the public interest require adopting the AD as proposed except for the changes discussed above and minor editorial corrections. We have determined that these changes and minor corrections:

—Provide the intent that was proposed in the NPRM for correcting the unsafe condition; and

—Do not add any additional burden upon the public than was already proposed in the NPRM.

Changes to 14 CFR Part 39—Effect on the AD

How Does the Revision to 14 CFR Part 39 Affect This AD?

On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How Many Airplanes Does This AD Impact?

We estimate that this AD affects 38,695 airplanes in the U.S. registry.

What Is the Cost Impact of This AD on Owners/Operators of the Affected Airplanes?

We estimate the following costs to remove the affected fire extinguishers from service (including replacing with another unit):

Labor cost | Parts cost | Total cost per airplane
1 workhour X $60 per hour = $60 | No cost for parts | $60 per airplane.

Compliance Time of This AD

What Will Be the Compliance Time of This AD?

The compliance time of this AD will be “within the next 12 months after February 20, 2004 (the effective date of this AD).”

Why Is This Compliance Time Presented in Calendar Time Instead of Hours Time-in-Service (TIS)?

Although the slow discharge of the fire extinguishers is only a problem during flight, the unsafe condition is not a result of aircraft operation. Therefore, FAA has determined that a compliance based on calendar time should be utilized in this AD in order to ensure that the unsafe condition is addressed on all aircraft in a reasonable time period.

Regulatory Findings

Will This AD Impact Various Entities?

We have determined that this AD will not have federalism implications under Executive Order 13132. This AD will not have a substantial direct effect on the States, on the relationship between the national government and the States, or on the distribution of power and responsibilities among the various levels of government.

Will This AD Involve a Significant Rule or Regulatory Action?

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-19-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-26-14 Kidde Aerospace: Amendment 39-13413; Docket No. 2003-CE-19-AD.

When Does This AD Become Effective?

(a) This AD becomes effective on February 20, 2004.

What Other ADs Are Affected by This Action?

(b) None.

What Airplanes Are Affected by This AD?

(c) This AD affects aircraft that are certificated in any category and incorporate hand-held halon fire extinguishers with the following:

(1) Part number (P/N) 898052; and

(2) A serial number in the range of V-432001 through W-389653 inclusive that were manufactured sometime from 1995-2002.

(i) Serial numbers are identified by the Underwriter's Laboratories (UL) number printed on the label and are listed in succession.

(ii) Other variants of the UL number with prefixes other than “V” or “W” are not affected by this AD.

What Is the Unsafe Condition Presented in This AD?

(d) This AD is the result of information that shows that the discharge time of the affected fire extinguishers exceeds the maximum allowable discharge time. The problem is due to incomplete crimping of the siphon tube. We are issuing this AD to remove from service fire extinguishers that have this incomplete crimping of the siphon tube. If not removed from service, these fire extinguishers could function at diminished levels and compromise the level of safety in an emergency situation.

What Must I Do To Address This Problem?

(e) To address this problem, you must accomplish the following:

Actions | Compliance | Procedures
(1) Remove from service any P/N 898052 hand-held halon fire extinguisher that has a serial number of V-432001 through W-389653 inclusive and was manufactured sometime from 1995-2002. You may not operate any aircraft without the applicable fire extinguishing equipment per FAA regulation (i) Serial numbers are identified by the Underwriter's Laboratories (UL) number printed on the label and are listed in succession. (ii) Other variants of the UL number with prefixes other than “V” or “W” are not affected by this AD. | Within the next 12 months after February 20, 2004 (the effective date of this AD) | Kidde Aerospace Service Bulletin 898052-26-449, dated October 7, 2002, specifies procedures for identifying the affected fire extinguishers. Use the procedures in this service bulletin for the returned fire extinguishers. Specifically, do not discharge them or ship them to Kidde Aerospace since a special collection point has already been established. Ensure that you follow all Department of Transportation (DOT) regulations (49 CFR) in the transport of fire extinguishing equipment. The regulations identify fire extinguishers containing compressed or liquefied gas as hazardous.
(2) The owner/operator holding at least a private pilot certificate as authorized by section 43.7 of the Federal Aviation Regulations (14 CFR 43.7) may remove the fire extinguisher specified in paragraph (e)(1) of this AD. Make an entry into the aircraft records showing compliance with this portion of the AD in accordance with section 43.9 of the Federal Aviation Regulations (14 CFR 43.9) | Within the next 12 months after February 20, 2004 (the effective date of this AD) | Not Applicable.
(3) Do not install, on any aircraft, a Kidde Aerospace P/N 898052 handheld halon fire extinguisher V-432001 through W-389653 inclusive that was manufactured sometime from 1995-2002 | As of February 20, 2004 (the effective date of this AD) | Not Applicable.

What About Alternative Methods of Compliance?

(f) You may request a different method of compliance or a different compliance time for this AD by following the procedures in 14 CFR 39.13. Send your request to the Manager, Atlanta Aircraft Certification Office, FAA. For information on any already approved alternative methods of compliance, contact Charles H. Bowser, Flight Test Engineer, FAA, Atlanta Aircraft Certification Office, One Crown Center, 1895 Phoenix Boulevard, Suite 450, Atlanta, Georgia 30349; telephone: (770) 703-6047; facsimile: (770) 703-6097.

Is There Material Incorporated by Reference?

(g) You must do the actions required by this AD per Kidde Aerospace Service Bulletin 898052-26-449, dated October 7, 2002. The Director of the Federal Register approved the incorporation by reference of this service bulletin in accordance with 5 U.S.C. 552(a) and 1 CFR part 51. You may get a copy from Kidde Aerospace, Kidde Technologies, Inc., 4200 Airport Drive, NW, Wilson, North Carolina 27896; telephone: (252) 237-7004. You may review copies at FAA, Central Region, Office of the Regional Counsel, 901 Locust, Room 506, Kansas City, Missouri 64106; or at the Office of the Federal Register, 800 North Capitol Street, NW, suite 700, Washington, DC.

Issued in Kansas City, Missouri, December 23, 2003.
Michael Gallagher,
Manager, Small Airplane Directorate, Aircraft Certification Service.

[FR Doc. 04-44 Filed 1-6-04; 8:45 am]

BILLING CODE 4910-13-P